DEPARTMENT OF EDUCATION

Applications for New Awards; Technical Assistance and Dissemination To Improve Services and Results for Children With Disabilities—National Assessment Center

AGENCY: Department of Education.

ACTION: Notice.

Overview Information

Technical Assistance and Dissemination To Improve Services and Results for Children with Disabilities—National Assessment Center.

Notice inviting applications for new awards for fiscal year (FY) 2011.

Catalog of Federal Domestic Assistance (CFDA) Number: 84.326G.

DATES: Applications Available: May 26, 2011.

Deadline for Transmittal of Applications: July 11, 2011.

Deadline for Intergovernmental Review: September 8, 2011.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2011 and any subsequent year in which we make awards based on the list of unfunded applicants from this competition, this priority is an absolute priority. Under 34 CFR 75.105(c)(3) we consider only applications that meet this priority.

This priority is:

Technical Assistance and Dissemination To Improve Services and Results for Children With Disabilities—National Assessment Center

Background

Federal and State laws over the past two decades have mandated the use of rigorous assessments aligned to academic content standards to improve accountability and ensure that students are acquiring the skills they need for success. Some laws and policies (e.g., those involving alternate assessments, assessment accommodations, and disaggregated reporting of assessment data by subgroups) are intended to ensure that all students, including students with disabilities, participate in assessments and are included in accountability systems.

As a result of States' efforts in implementing Federal and State laws in this area, there are multiple ways for students with disabilities to participate in State assessments—general assessments, general assessments with accommodations, and alternate assessments that are based on alternate academic achievement standards, modified academic achievement standards, or grade-level academic achievement standards. Further, evidence suggests that: Instruction for students with disabilities is increasingly aligned with State academic content standards; assessment data are increasingly used to make educational decisions for these students; and participating in State assessments and being included in accountability systems may have positive effects on educational results for students with disabilities (National Council on Disability, 2008; Towles-Reeves, Kleinert, & Muhomba, 2009).

Despite the progress States have made in including students with disabilities in assessments and accountability systems, States continue to face challenges with issues such as integrating data from dissimilar tests (regular, accommodated, and alternate) into a single accountability system, and developing consistent State policies on assessment accommodations (Eckes & Swando, 2009; Center for Education Policy, 2009). In addition, the assessment landscape is changing as States adopt common, college- and career-ready academic content standards and develop new, valid, more instructionally useful and inclusive assessments aligned to these standards. The U.S. Department of Education has supported these efforts through programs such as the Race to the Top Assessment (RTTA) program, the State Assessments program, and the General Supervision Enhancement Grants-Alternate Academic Achievement Standards program (GSEG). However, developing and implementing new forms of assessments are challenging and time-consuming processes. For example, assessments developed under the RTTA program are required to be fully implemented statewide in consortia States no later than the 2014-2015 school year. During the next several years while these new large-scale assessments are being developed and implemented, States will need continued support to ensure that all students, including those with disabilities, are included in current assessments. Once the RTTA assessments are developed, States may need support in implementing them to ensure that all students, except for students with the most significant cognitive disabilities who are eligible to participate in alternate assessments based on alternate academic achievement standards in accordance with 34 CFR 200.6(a)(2), participate in these assessments (U.S. Department of Education, 2010).

Currently, the Office of Special Education Programs (OSEP) funds the National Center on Educational Outcomes (NCEO) at the University of Minnesota to address national, State, and local assessment issues related to students with disabilities. NCEO also assists OSEP by analyzing State assessment data submitted in the State Performance Plan/Annual Performance Reports (SPP/APR) required under IDEA. The priority established in this notice will support a new center to continue, update, and expand on NCEO's work by supporting States in the implementation of appropriate, high-quality assessments for students with disabilities, as well as by working with States to explore emerging issues such as growth models, universal design, and technology-based assessments for students with disabilities. In addition, if the center funded under this priority receives the two-year extension described under the heading “Extending the Project for a Fourth and Fifth Year” in this notice, it will assist States, as needed, in implementing the RTTA assessments to ensure that students with disabilities are included in the assessments and receive accommodations, as appropriate, and that assessment data are used to improve instruction and accountability for students with disabilities.

Priority

The purpose of this priority is to fund a cooperative agreement to support the establishment and operation of a National Assessment Center (Center) that will: (1) Provide technical assistance to States regarding the inclusion of students with disabilities in assessments and State accountability systems; (2) develop and implement leadership activities (e.g., supporting communities of practice and convening national forums) to ensure that students with disabilities are included in and benefit from emerging approaches to assessment; (3) continue and update NCEO's work in conducting analyses of State SPP/APR assessment data; (4) collect, analyze, synthesize, and disseminate relevant information related to the assessment of students with disabilities; and (5) serve as a national resource for policymakers, administrators, teachers, advocates, parents, and the RTTA and GSEG consortia funded by the Department on the assessment of students with disabilities.

To be considered for funding under this absolute priority, applicants must meet the application requirements contained in this priority. Any project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: http://www.researchutilization.org/matrix/logicmodel_resource3c.html and http://www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one-day kick-off meeting to be held in Washington, DC, within four weeks after receipt of the award, and an annual planning meeting held in Washington, DC, with the OSEP Project Officer during each subsequent year of the project period.

(2) A three-day Project Directors' Conference in Washington, DC, during each year of the project period.

(3) A minimum of six two-day trips annually to attend Department briefings, Department-sponsored conferences, and other meetings, as approved by OSEP; and

(f) A line item in the proposed budget for an annual set-aside of five percent of the grant amount to support emerging needs that are consistent with the proposed project's activities, as those needs are identified in consultation with OSEP, and in coordination and collaboration with other related projects funded by the Department.

Note: With approval from the OSEP Project Officer, the Center must reallocate any remaining funds from this annual set-aside no later than the end of the third quarter of each budget period.

(g) In situations in which the applicant is also a grantee or subcontractor in the RTTA or GSEG programs, an assurance that the technical assistance the Center provides will not give undue favor or support to any particular project or activity in the RTTA or GSEG programs and will instead be based on a thorough review of the field and up-to-date research.

Project Activities. To meet the requirements of this priority, the Center, at a minimum, must conduct the following activities:

Knowledge Development Activities.

(a) Collect, analyze, synthesize, and disseminate relevant information regarding the assessment of students with disabilities, including on topics such as assessment accommodations, alternate assessments, formative assessments, universal design of assessments, technology-based assessments, assessing English learners with disabilities, methods for analyzing and reporting assessment data that include students with disabilities, implications of and best practices in using assessments aligned with common college- and career-ready academic content standards for students with disabilities, application of growth models in assessment programs that include students with disabilities, uses of assessment data that include students with disabilities to inform instructional programs, and the inclusion of students with disabilities in accountability systems. The type of information collected, analyzed, synthesized, and disseminated under this paragraph must include: Research findings, Federal and State policies, assessment data (e.g., data posted on State Web sites or submitted to the Department), and other relevant resources. Presentation of research findings must include information on the strength of the research evidence, to the degree that the strength of evidence can be feasibly and validly determined.

(b) Conduct surveys to assess State needs and track State activities and trends related to students with disabilities and assessments, including as appropriate any of the topics listed in paragraph (a) of the Knowledge Development Activities section of the priority.

Technical Assistance and Dissemination Activities.

(a) Provide technical assistance to States regarding the inclusion of students with disabilities in assessments and accountability systems.

(b) Provide technical assistance, as needed, to States regarding the implementation of large-scale assessments developed by the RTTA and GSEG consortia funded by the Department. The delivery of this technical assistance may be contingent on the Center receiving the two-year extension discussed under the heading “Extending the Project for a Fourth and Fifth Year” in this notice.

(c) Provide technical assistance to States that include student performance on assessments as one of the factors they use to determine if a local educational agency (LEA):

(1) Meets the requirements and purposes of part B of IDEA;

(2) Needs assistance in implementing the requirements of part B of IDEA;

(3) Needs intervention in implementing the requirements of part B of IDEA; or

(4) Needs substantial intervention in implementing the requirements of part B of IDEA.

(d) Recruit and coordinate a cadre of experts that the Center will use to provide TA to States to assist them in—

(1) Including students with disabilities in rigorous, high-quality assessments that are aligned to academic content standards, including common college- and career-ready academic content standards; and

(2) Using assessment results in instructional decision-making to improve teaching and learning for students with disabilities.

(e) Maintain a Web site that meets government or industry-recognized standards for accessibility and that links to the Web site operated by the OSEP-funded Technical Assistance Coordination Center (TACC).

(f) Prepare and disseminate reports, documents, and other materials for specific audiences (as requested by OSEP) including policymakers, administrators, teachers, advocates, and parents on topics related to—

(1) Including students with disabilities in rigorous, high-quality assessments that are aligned to academic content standards, including common college- and career-ready standards; and

(2) Using assessment results in instructional decision-making to improve teaching and learning for students with disabilities.

In consultation with the OSEP Project Officer and the advisory committee established in accordance with paragraph (b) of the Leadership and Coordination Activities section of this priority, the Center must make selected reports, documents, and other materials available for parents in both English and Spanish.

(g) Use technological tools to increase the reach and impact of the Center's work.

Leadership and Coordination Activities.

(a) Compile and share data, as directed by OSEP, on States' APRs and updated SPPs for part B Indicator 3 “Assessment” by:

(1) Reviewing relevant sections of each State's APR and updated SPP and summarizing the data on Part B Indicator 3 “Assessment;”

(2) Developing a summary report for this indicator that includes information about States' progress in meeting targets for the indicator, as well as any revisions made to States' monitoring and data systems, measurement systems, or improvement strategies; and

(3) Providing these summary reports to OSEP in a timely manner and participating in OSEP-requested teleconferences to discuss the findings of the summary reports.

(b) Establish and maintain an advisory committee to review the activities and outcomes of the Center and provide programmatic support and advice throughout the project period. At a minimum, the advisory committee must meet on an annual basis in Washington, DC and include persons with expertise in assessment, the education of students with disabilities, and educational policy. The advisory committee also must include representation from State educational agencies (SEAs), LEAs, individuals with disabilities, parents, testing companies, and other relevant stakeholder groups. The Center must submit the names of proposed members of the advisory committee to OSEP for approval within eight weeks after receipt of the award.

(c) Form partnerships with other technical assistance and dissemination projects funded by the U.S. Department of Education (e.g., the Comprehensive Centers, the Equity Assistance Centers, the Regional Educational Laboratories, the Regional Resource Centers, the Data Accountability Center, and the Early Childhood Outcomes Center), professional and advocacy organizations (e.g., National Association of State Directors of Special Education, Learning Disabilities Association of America, Association of Test Publishers), and other entities (e.g., research groups and academic institutions), to maximize efficiency and carry out leadership activities such as joint conferences, the coordination of TA services, and the planning and carrying out of TA meetings and activities, as appropriate.

(d) Support the RTTA and GSEG consortia by sharing products, guidance, analyses, tools, and research-based information related to students with disabilities (including information on the strength of available research evidence).

(e) Participate in, organize, or facilitate communities of practice that align with the needs of the project's target audience. Communities of practice should align with the project's objectives to support discussions and collaboration among key stakeholders. The following Web site provides more information on communities of practice: http://tadnet.org/communities.

(f) Prior to developing any new product, submit a proposal for the product to the TACC database for the OSEP Project Officer's approval. All new products should be developed consistent with the product definition and guidelines posted on the TACC Web site: http://www.tadnet.org/home?format=html.

(g) Contribute, on an ongoing basis, updated information on the Center's approved and finalized products and services to a database at TACC.

(h) Coordinate with the National Dissemination Center for Individuals with Disabilities to develop an efficient and high-quality dissemination strategy that reaches broad audiences. The Center must report to the OSEP Project Officer the outcomes of these coordination efforts.

(i) Maintain ongoing communication with the OSEP Project Officer through monthly phone conversations and e-mail communication.

Extending the Project for a Fourth and Fifth Year

The Secretary may extend the Center for up to two additional years beyond its original project period of 36 months if a grantee is achieving the intended outcomes of the grant, shows improvement against baseline measures on performance indicators, and is making a positive contribution to the inclusion of students with disabilities in State and local assessments and accountability systems.

References

Center for Education Policy. (2009). Has Progress Been Made in Raising Achievement for Students with Disabilities? Washington, DC: Center for Education Policy.

Eckes, S.E. & Swando, J. (2009). Special education subgroups under NCLB: Issues to consider. Teachers College Record, 111, 2479-2504.

National Council on Disability. (2008). The No Child Left Behind Act and the Individuals with Disabilities Education Act: A Progress Report. Washington, DC: National Council on Disability.

Towles-Reeves, E., Kleinert, H., & Muhomba, M. (2009). Alternate assessment: Have we learned anything new? Exceptional Children, 75, 233-252.

U.S. Department of Education. (2010). Overview Information; Race to the Top Fund Assessment Program; Notice Inviting Applications for New Awards for Fiscal Year (FY) 2010. Federal Register, 75(68), April 9, 2010, 18171-18185.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to institutions of higher education (IHEs) only.

II. Award Information

Type of Award: Cooperative agreement.

Estimated Available Funds: $1,000,000 Contingent upon the availability of funds and the quality of applications, we may make additional awards in FY 2012 from the list of unfunded applicants from this competition.

Maximum Awards: We will reject any application that proposes a budget exceeding $1,000,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance.

III. Eligibility Information

1. Eligible Applicants: SEAs; LEAs, including public charter schools that are considered LEAs under State law; IHEs; other public agencies; private nonprofit organizations; outlying areas; freely associated States; Indian Tribes or Tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.326G.

To obtain a copy from the program office, contact the person listed under FOR FURTHER INFORMATION CONTACT in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions. Text in charts, tables, figures, and graphs in the application narrative may be single spaced and will count toward the page limit.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: May 26, 2011.

Deadline for Transmittal of Applications: July 11, 2011.

Applications for grants under this competition may be submitted electronically using the Grants.gov Apply site, or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 8, 2011.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition may be submitted electronically or in paper format by mail or hand delivery.

a. Electronic Submission of Applications

We are participating as a partner in the Governmentwide Grants.gov Apply site. The National Assessment Center competition, CFDA number 84.326G, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Assessment Center competition at http://www.Grants.gov. You must search for the downloadable application package for this program by the CFDA number. Do not include the CFDA number's alpha suffix in your search (e.g., search for 84.326, not 84.326G).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: The Application for Federal Assistance (SF 424), the Department of Education Supplemental Information for SF 424, Budget Information—Non-Construction Programs (ED 524), and all necessary assurances and certifications.

• If you submit your application electronically, you must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address: U.S. Department of Education, Application Control Center, Attention: (CFDA Number 84.326G), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.326G), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: David Egnor, U.S. Department of Education, 400 Maryland Avenue, SW., Room 4054, Potomac Center Plaza (PCP), Washington, DC 20202-2550. Telephone: (202) 245-7334.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: May 20, 2011.
Alexa Posny,
Assistant Secretary for Special Education and Rehabilitative Services.

[FR Doc. 2011-13098 Filed 5-25-11; 8:45 am]

BILLING CODE 4000-01-P